DEPARTMENT OF COMMERCE

International Trade Administration

[A-570-831]

Fresh Garlic From the People's Republic of China: Partial Rescission of the 19th Antidumping Duty Administrative Review; 2012-2013

AGENCY: Enforcement and Compliance, International Trade Administration, Department of Commerce.

SUMMARY: The Department of Commerce (the Department) is conducting the 19th administrative review of the antidumping duty order on fresh garlic from the People's Republic of China (PRC) covering the period of review November 1, 2012, through October 31, 2013. The Department is rescinding the review for 94 companies for which Petitioners and/or the companies withdrew their request(s) in a timely manner.

DATES: Effective Date: May 29, 2014.

FOR FURTHER INFORMATION CONTACT: Jacqueline Arrowsmith, AD/CVD Operations, Office VII, Enforcement and Compliance, International Trade Administration, U.S. Department of Commerce, 14th Street and Constitution Avenue NW., Washington, DC 20120; telephone (202) 482-5255.

SUPPLEMENTARY INFORMATION:

Background

On November 1, 2013, the Department of Commerce published in the Federal Register a notice of the opportunity to request administrative review of, inter alia, the antidumping duty order on fresh garlic from the PRC covering the period November 1, 2012, through October 31, 2013.¹ In November 2013, the Department received review requests from PRC producers/exporters of fresh garlic and the Fresh Garlic Producers Association (FGPA) and its individual members (collectively, the Petitioners).² On December 30, 2013, the Department initiated this review for 147 producers/exporters.³ On March 31, 2014, Petitioners timely withdrew their review requests for 94 of the 147 companies, listed as an attachment to this notice. Harmoni also filed a timely request for withdrawal on the same date.

¹ Antidumping or Countervailing Duty Order, Finding, or Suspended Investigation; Opportunity To Request Administrative Review, 78 FR 65612 (November 1, 2013).

² Shenzhen Xinboda Industrial Co., Ltd. and Zhenghou Harmoni Spice Co., Ltd. (Harmoni) are the PRC producer/exporters. The individual members of the FGPA are Christopher Ranch L.L.C.; the Garlic Company; Valley Garlic; and Vessey Company, Inc.

³ See Initiation of Antidumping and Countervailing Duty Administrative Reviews and Request for Revocation in Part, 78 FR 79392 (December 30, 2013) (Initiation Notice).

Rescission in Part

Pursuant to 19 CFR 351.213(d)(1), the Secretary will rescind an administrative review, in whole or in part, if a party who requested the review withdraws its request within 90 days of the day of publication of notice of initiation of the requested review. The aforementioned requests for review were timely withdrawn and because no other party requested a review of the aforementioned producers/exporters, in accordance with 19 CFR 351.213(d)(1), with respect to these producers/exporters.

Assessment Rates

The Department will instruct U.S. Customs and Border Protection (CBP) to assess antidumping duties on all appropriate entries. For those producers/exporters for which this review has been rescinded and which have a separate rate from a prior segment of this proceeding, antidumping duties shall be assessed at rates equal to the cash deposit of estimated antidumping duties required at the time of entry, or withdrawal from the warehouse, for consumption, in accordance with 19 CFR 351.212(c)(2). For those producers/exporters for which this review has been rescinded and which have not been assigned a separate rate from a prior segment of the proceeding, the Department stated that they belong to the PRC-wide entity and that the administrative review will continue for these companies.⁴

⁴ See Initiation Notice.

Notification to Importers

This notice serves as a final reminder to importers for whom this review being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Order

This notice also serves as a reminder to parties subject to an administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: May 21, 2014.
Christian Marsh,
Deputy Assistant Secretary for Antidumping and Countervailing Duty Operations.

Attachment

1. American Pioneer Shipping

2. Anhui Dongqian Foods Ltd.

3. Anqiu Friend Food Co., Ltd.

4. Anqiu Haoshun Trade Co., Ltd.

5. APM Global Logistics (Shanghai) Co., Ltd.

6. APS Qingdao

7. Chiping Shengkang Foodstuff Co., Ltd.

8. CMEC Engineering Machinery Import & Export Co., Ltd.

9. Dongying Shunyifa Chemical Co., Ltd.

10. Dynalink Systems Logistics (Qingdao) Inc.

11. Eimskip Logistics Inc.

12. Feicheng Acid Chemicals Co., Ltd.

13. Frog World Co., Ltd.

14. Golden Bridge International, Inc.

15. Hangzhou Guayu Foods Co., Ltd.

16. Hongqiao International Logistics Co.

17. Intects Logistics Service Co., Ltd.

18. IT Logistics Qingdao Branch

19. Jinan Solar Summit International Co., Ltd.

20. Jinan Yinpin Coporation Ltd.

21. Jining De-Rain Trading Co., Ltd.

22. Jining Highton Trading Co., Ltd.

23. Jining Jiulong International Trading Co., Ltd.

24. Jining Tiankuang Trade Co., Ltd.

25. Jining Trans-High Trading Co., Ltd.

26. Jinxiang County Huanguang Food Import & Export Co., Ltd.

27. Jinxiang Dacheng Food Co., Ltd.

28. Jinxiang Fengsheng Import & Export Co., Ltd.

29. Jinxiang Jinma Fruits and Vegetables Products Co., Ltd.

30. Jinxiang Meihua Garlic Produce Co., Ltd.

31. Jinxiang Shanyang Freezing Storage Co., Ltd.

32. Jinxiang Shenglong Trade Co., Ltd.

33. Jinxiang Tianheng Trade Co., Ltd.

34. Jinxiang Tianma Freezing Storage Co., Ltd.

35. Juye Homestead Fruits and Vegetables Co., Ltd.

36. Kingwin Industrial Co., Ltd.

37. Laiwu Fukai Foodstuff Co., Ltd.

38. Laizhou Xubin Fruits and Vegetables

39. Linshu Dading Private Agricultural Products Co., Ltd.

40. Linyi City Hedong District Jiuli Foodstuff Co., Ltd.

41. Linyi City Kangfa Drinkable Co., Ltd.

42. Linyi Katayama Foodstuffs Co., Ltd.

43. Linyi Tianqin Foodstuff Co., Ltd.

44. Ningjin Ruifeng Foodstuff Co., Ltd.

45. Qingdao Apex Shipping Co., Ltd.

46. Qingdao BNP Co., Ltd.

47. Qingdao Cherry Leather Garment Co., Ltd.

48. Qingdao Chongzhi International Transportation Co., Ltd.

49. Qingdao Saturn International Trade Co., Ltd.

50. Qingdao Sino-World International Trading Co., Ltd.

51. Qingdao Winner Foods Co., Ltd.

52. Qingdao Yuankuang International

53. Qufu Dongbao Import & Export Trade Co., Ltd.

54. Rizhao Huasai Foodstuff Co., Ltd.

55. Samyoung America (Shanghai) Inc.

56. Shandong Chengshun Farm Produce Trading Co., Ltd.

57. Shandong China Bridge Imports

58. Shandong Dongsheng Eastsun Foods Co., Ltd.

59. Shandong Garlic Company

60. Shandong Longtai Fruits and Vegetable Co., Ltd.

61. Shandong Sanxing Foods Co., Ltd.

62. Shandong Wonderland Organic Food Co., Ltd.

63. Shandong Xingda Foodstuffs Group Co., Ltd.

64. Shandong Yipin Agro (Group) Co., Ltd.

65. Shanghai Ever Rich Trade Company

66. Shanghai Goldenbridge International Co., Ltd.

67. Shanghai Great Harvest International Co., Ltd.

68. Shanghai Medicines & Health Products Import/Export Co., Ltd.

69. Shanghai Yija International Transportation Co., Ltd.

70. Shenzhen Fanhui Import & Export Co., Ltd.

71. Shenzhen Greening Trading Co., Ltd.

72. Sunny Import & Export Limited

73. T&S International, LLC

74. Tainan Eastsun Foods Co., Ltd.

75. Taian Fook Huat Tong Kee Pte. Ltd.

76. Taian Solar Summit Food Co., Ltd.

77. Taiyan Ziyang Food Co., Ltd.

78. Tianjin Spiceshi Co., Ltd.

79. U.S. United Logistics (Ningbo) Inc.

80. V.T. Impex (Shandong) Limited

81. Weifang Chenglong Import & Export Co., Ltd.

82. Weifang Jinbao Agricultural Equipment Co., Ltd.

83. Weifang Shennong Foodstuff Co., Ltd.

84. Weihai Textile Group Import & Export Co., Ltd.

85. WSSF Corporation (Weifang)

86. Xiamen Huamin Import Export Company

87. Xiamen Keep Top Imp. And Exp. Co., Ltd.

88. Xinjiang Top Agricultural Products Co., Ltd.

89. Yishui Hengshun Foodstuff Co., Ltd.

90. You Shi Li International Trading Co., Ltd.

91. Zhangzhou Xiangcheng Rainbow Greenland Food Co., Ltd.

92. Zhengzhou Dadi Garlic Industry Co., Ltd.

93. Zhengzhou Harmoni Spice Co., Ltd.

94. Zhengzhou Xiwannian Food Co., Ltd.

[FR Doc. 2014-12506 Filed 5-28-14; 8:45 am]

BILLING CODE 3510-DS-P